DEPARTMENT OF ENERGY

Federal Energy Regulatory Commission

[Docket No. CP09-6-000; Docket No. CP09-7-000]

LNG Development Company, LLC; Oregon Pipeline Company, LLC; Supplemental Notice of Onsite Environmental Review

September 10, 2009.

On September 15, 16, and 17, 2009, the Office of Energy Projects staff will be in Clackamas, Marion, Yamhill, Washington, Columbia and Clatsop Counties, Oregon to gather data related to the environmental analysis of the proposed Oregon LNG Terminal and Pipeline Project. Staff will examine specific locations along the proposed pipeline route variations filed by Oregon Pipeline Company on July 30, 2009, focusing on crossing locations of streams, wetlands, and riparian areas. Staff will also examine selected areas where the proposed Oregon LNG Pipeline and Palomar Pipeline routes would be parallel. This will assist staff in completing its comparative evaluation of environmental impacts of the two routes. Viewing of these areas is anticipated to be from public access points. In addition, staff will travel to the proposed LNG terminal site in Clatsop County, Oregon to evaluate issues regarding access to the LNG terminal and impacts on nearby industrial facilities.

All interested parties planning to attend must provide their own transportation. Those attending should meet at the following locations:

• Tuesday, September 15, 2009 at 3 p.m. (PST) meet at the Molalla Gate Station, 10405 South Barnards Road (between Dryland Road and Elisha Road), and Molalla, Oregon.

• Wednesday, September 16, 2009 at 8 a.m. (PST) meet at the Red Lion Hotel Parking Lot, 2535 NE Cumulus Ave, McMinnville, Oregon.

• Thursday, September 17, 2009 at 8 a.m. (PST) meet near the LNG terminal site entrance (intersection of Harbor Drive and King Avenue) in Warrenton, Oregon.

Please use the FERC's free eSubscription service to keep track of all formal issuances and submittals in these dockets. This can reduce the amount of time you spend researching proceedings by automatically providing you with notification of these filings, document summaries, and direct links to the documents. To register for this service, go to http://www.ferc.gov/esubscribenow.htm.

Information about specific onsite environmental reviews is posted on the Commission's calendar at http://www.ferc.gov/EventCalendar/EventsList.aspx. For additional information contact Office of External Affairs at 1-866-208-FERC (3372).

Kimberly D. Bose,
Secretary.

[FR Doc. E9-22467 Filed 9-17-09; 8:45 am]

BILLING CODE 6717-01-P